DEPARTMENT OF VETERANS AFFAIRS

Advisory Committee on Women Veterans; Notice of Meeting

The Department of Veterans Affairs (VA) gives notice under Public Law 92-463 (Federal Advisory Committee Act) that the Advisory Committee on Women Veterans will meet on June 19, 2008 in room 230 at 810 Vermont Avenue, NW., Washington, DC from 8:30 a.m.-4:30 p.m. The meeting is open to the public.

The purpose of the Committee is to advise the Secretary of Veterans Affairs regarding the needs of women veterans with respect to health care, rehabilitation, compensation, outreach, and other programs and activities administered by VA designed to meet such needs. The Committee will make recommendations to the Secretary regarding such programs and activities.

On June 19, the agenda will include final review and editing of the 2008 Advisory Committee on Women Veterans report, discussion and planning of the fall Advisory Committee meeting, and discussion of the Advisory Committee's role at the 2008 National Summit on Women Veterans' Issues—which will be held at the Westin Washington, DC City Center June 20-22, 2008.

Any member of the public wishing to attend should contact Ms. Shannon L. Middleton, Department of Veterans Affairs, Center for Women Veterans (OOW), 810 Vermont Avenue, NW., Washington, DC 20420. Ms. Middleton may be contacted either by phone at (202) 461-6193, by fax at (202) 273-7092, or by e-mail at OOW@mail.va.gov. Interested persons may attend, appear before, or file statements with the Committee. Written statements must be filed before the meeting, or within 10 days after the meeting.

Dated: May 22, 2008.
By Direction of the Secretary.
E. Philip Riggin,
Committee Management Officer.

[FR Doc. E8-11948 Filed 5-28-08; 8:45 am]

BILLING CODE 8320-01-P